DEPARTMENT OF AGRICULTURE

Agricultural Marketing Service

7 CFR Part 51

[Docket Number FV-06-303]

Potatoes; Grade Standards

AGENCY: Agricultural Marketing Service, USDA.

ACTION: Proposed rule.

SUMMARY: This proposed rule would revise the United States Standards for Grades of Potatoes. These standards are issued under the Agricultural Marketing Act of 1946. The use of these grading standards is voluntary unless potatoes are under a marketing order that provides for certain requirements set forth in the grade standards or the potatoes are subject to import requirements under the Agricultural Marketing Agreement Act of 1937. The changes being proposed are the results of the detailed work performed by the Joint U.S./Canadian Potato Council that was charged with harmonizing the U.S. and Canadian Potato Grade Standards. The purpose for this revision is to update and revise the standards to more accurately represent today's marketing practices.

DATES: Comments must be received by November 21, 2006.

ADDRESSES: Interested persons are invited to submit written comments concerning this proposal. Comments must be sent to the Standardization Section, Fresh Products Branch, Fruit and Vegetable Programs, Agricultural Marketing Service, U.S. Department of Agriculture, 1400 Independence Ave., SW., Room 1661 South Building, Stop 0240, Washington, DC 20250-0240; Fax (202) 720-8871, E-mail FPBDocketclerk@usda.gov. Comments should make reference to the date and page number of this issue of the Federal Register and will be made available for public inspection in the above office during regular business hours. Comments can also be submitted on the Internet at: http://www.regulations.gov. The current United States Standards for Grades of Potatoes, along with the proposed changes, will be available either through the address cited above or by accessing the AMS, Fresh Products Branch Web site at: http://www.ams.usda.gov/standards/stanfrfv.htm.

FOR FURTHER INFORMATION CONTACT: Cheri Emery, at the above address or call (202) 720-2185; E-mail Cheri.Emery@usda.gov.

SUPPLEMENTARY INFORMATION:

Executive Order 12866 and 12988

The Office of Management and Budget has waived the review process required by Executive Order 12866 for this action. This rule has been reviewed under Executive Order 12988, Civil Justice Reform. This action is not intended to have retroactive effect. This rule will not preempt any state or local laws, regulations, or policies, unless they present an irreconcilable conflict with this rule. There are no administrative procedures which must be exhausted prior to any judicial challenge to the provisions of the rule.

Regulatory Flexibility Act and Paperwork Reduction Act

The Joint U.S./Canadian Council, which was established by the United States Secretary of Agriculture and the Canadian Minister of Agriculture was charged with harmonizing the U.S. and Canadian grade standards. The United States Standards for Grades of Potatoes was last revised in 1991. The Council, which consists of representatives from the industry and government, meets annually to discuss issues concerning cross border marketing and trade of potatoes. AMS and the Canadian Food Inspection Agency (CFIA) have been working with the Council for the past 14 years in the harmonizing of the standards. To complete the harmonization process both the Canadian and U.S. grade standards require a revision. The revisions being proposed will benefit all aspects of the potato industry and make the standards current with today's marketing trends and practices.

Pursuant to the requirements set forth in the Regulatory Flexibility Act (RFA), AMS has considered the economic impact of this action on small entities. The purpose of the RFA is to fit regulatory actions to the scale of businesses subject to such actions in order that small businesses will not be unduly or disproportionately burdened. Accordingly, AMS has prepared this initial regulatory flexibility analysis. Interested parties are invited to submit information on the regulatory and informational impacts of this action on small businesses.

This rule will revise the U.S. Standards for Grades of Potatoes that were issued under the Agricultural Marketing Act of 1946. Standards issued under the 1946 Act are voluntary.

Small agricultural service firms, which include handlers, have been defined by the Small Business Administration (SBA) (13 CFR 121.201) as those having annual receipts of less than $6,500,000, and small agricultural producers are defined as those having annual receipts of less than $750,000. Using annual data from the National Agricultural Statistics Service (NASS), the average potato crop value for 2002-2004 is $2.538 billion. Dividing that figure by 9,408 farms yields an average potato crop value per farm of just under $270,000. Since this is well under the SBA threshold of annual receipts of $750,000, it can be concluded that the majority of these producers may be classified as small entities.

Additional evidence comes from examining the Agricultural Census acreage breakdown more closely. Out of a total of 9,408 potato farms in 2002, 60 percent were under 5 acres and 76 percent were under 100 acres. An estimate of the number of acres that it would take to produce a crop valued at $750,000 can be made by dividing the 2002-04 average crop value of $2.538 billion by three-year average bearing acres (1.227 million), yielding an average potato revenue per acre estimate of $2,068. Dividing $750,000 by $2,068 shows that farms with at least 363 acres that received at least the average price in 2002-04 would have produced crops valued at $750,000 or more, and would be therefore be considered large potato farms under the SBA definition. Looking at farm numbers for additional census size categories shows that 8,084 potato farms (86 percent) are under 250 acres and 8,735 (92 percent) are under 500 acres. Since a farm with 363 acres of potatoes falls into middle of this range, it can be concluded that the proportion of small potato farms under the SBA definition is likely to be between 86 and 90 percent of all U.S. potato farms.

This proposed rule would: Develop en route or at destination tolerances for the U.S. No. 1 and U.S. No. 2 grades, revise current tolerances in all grades, delete the “Unclassified” section, and define damage and serious damage by the following defects which will be added to Table III of the External Defects section: Cuts, Clipped Ends, Elephant Hide, Flattened or Depressed Areas/Pressure Bruises, Grub Damage, Nematode (Root Knot), Rodent or Bird Damage, Russeting, Silver Scurf, Sunken Discolored Areas, and Surface Cracks. The following defects and scoring guidelines that are currently listed in Table III of the External Defects section would be modified to reflect current inspection instructions: Air Cracks, Bruises, External Discoloration, Flea Beetle Injury, Greening, Growth Cracks, Rhizoctonia, Pitted Scab, Russet Scab, Surface Scab, and Wireworm or Grass Damage. Also, a revision to the current scoring guide for sprouts is being proposed. In the Internal Defects section, Internal Black Spot would be revised by implementing a color chip to assist in the scoring of this defect. Also, Table IV in this section would be redesignated as Table 1. Additionally, a revised large size is being proposed as well as adding Chef and Creamer sizes.

The effects of this rule are not expected to be disproportionately greater or smaller for small handlers or producers than for larger entities.

This proposed action would make the standard more consistent and uniform with marketing trends and practices. This proposed action will not impose any additional reporting or recordkeeping requirements on either small or large potato producers, handlers, or importers. USDA has not identified any Federal rules that duplicate, overlap, or conflict with this rule. However, there are marketing programs which regulate the handling of potatoes under (7 CFR parts 945-948 and 953). Potatoes under a marketing order have to meet certain requirements set forth in the grade standards. In addition, potatoes are subject to Section 8e import requirements under the Agricultural Marketing Act of 1937, as amended (7 U.S.C. 601-674) which requires imported potatoes to meet grade, size, and quality under the applicable marketing order (7 CFR part 980).

Alternatives were considered for this action. One alternative would be to not issue a proposed rule. However, the need for revisions have increased as a result of changing market characteristics. The proposal represents approximately 14 years of research, surveys, and other input from all sectors of the potato industry and government. The purpose of these proposed standards is to facilitate the marketing of agricultural commodities.

Background and Proposed Rule

In 1991, the Joint U.S./Canadian Council was established by the U.S. Secretary of Agriculture and the Canadian Minister of Agriculture to discuss issues concerning cross border marketing and trade of potatoes. The Council was charged with working towards harmonizing the U.S. and Canadian Potato Grade Standard. Government representatives from both countries have been providing technical assistance and guidance to the Council with regard to the interpretation of the standards and scoring guides of defects.

The Council formed a Grade Harmonization Committee (Committee) to work on the harmonization of the two standards. The harmonization process was divided into several phases. The Committee began by focusing its attention on defects that could be harmonized with adjustments that would not involve a revision of the standards. These defects include those for which the scoring guides were defined in inspection instruction handbooks or ones for which the scoring guides are listed in the standards as scorable when “materially or seriously affecting the appearance.” The defining of “materially or seriously affecting the appearance” for certain defects will also provide for more uniformity with regard to how the U.S. standards are applied nationwide. The final phase of the harmonization process requires a revision to the United States Standards for Grades of Potatoes.

This proposed rule would: Develop en route or at destination tolerances for the U.S. No. 1 and U.S. No. 2 grades, revise current tolerances in all grades, delete the “Unclassified” section, and define damage and serious damage by the following defects which will be added to Table III of the External Defects section: Cuts, Clipped Ends, Elephant Hide, Flattened or Depressed Areas/Pressure Bruises, Grub Damage, Nematode (Root Knot), Rodent or Bird Damage, Russeting, Silver Scurf, Sunken Discolored Areas, and Surface Cracks. Also, the following defects and scoring guidelines that are currently listed in Table III of the External Defects section would be updated to better reflect current inspection instructions: Air Cracks, Bruises, External Discoloration, Flea Beetle Injury, Greening, Growth Cracks, Rhizoctonia, Pitted Scab, Russet Scab, Surface Scab, and Wireworm or Grass Damage. Also, a revision to the current scoring guide for sprouts is being proposed. In the Internal Defects section, Internal Black Spot would be revised by implementing a color chip to assist in the scoring of this defect. Also, Table IV in this section would be redesignated as Table 1. Additionally, a revised large size is being proposed as well as adding Chef and Creamer sizes. In an effort to clearly outline these proposed changes, the first column of the following chart shows the section as it currently reads, the second column shows the proposed change and the third column states why the change is being proposed:

Current standard | Proposed standard | Discussion
§ 51.1540 U.S. Extra No. 1 “U.S. Extra No. 1” consists of potatoes which meet the following requirements: (a) Similar varietal characteristics; (b) Firm; (c) Clean; (d) At least fairly well matured; (e) Fairly well shaped, with 50 percent or more well shaped; (f) Free from; (1) Freezing; (2) Blackheart; (3) Late blight, southern bacterial wilt and ring rot; and, (4) Soft rot and wet breakdown. (g) Free from injury caused by: (1) Sprouts; and, (2) Internal defects. (h) Free from damage by any other cause. See §§ 51.1564 and 51.1565. (i) Size. The potatoes shall be not less than 2¼ inches in diameter or 5 ounces in weight and shall not vary more than 1¼ inches in diameter or more than 6 ounces in weight. (j) For tolerances see § 51.1546. | § 51.1540 (Reserved) | A deletion to the U.S. Extra No. 1 grade and all reference to the U.S. Extra No. 1 grade is being proposed as this grade is no longer utilized by the industry.
§ 51.1544 Unclassified “Unclassified” consists of potatoes which have not been classified in accordance with any of the foregoing grades. The term “unclassified” is not a grade within the meaning of these standards but is provided as a designation to show that no grade has been applied to the lot. | § 51.1544 (Reserved) | When changing or updating standards in recent years, references to “Unclassified” have been removed in an attempt to eliminate the confusion this term creates. People have incorrectly assumed that “Unclassified” is an actual grade name. To avoid further confusion it is proposed that all references to this term be eliminated.
§ 51.1545 Size (See Current Table I) | (Revising, See Proposed Table I) | It is being proposed that a Chef and Creamer size be added to reflect current marketing practices. Also, being proposed is the maximum diameter or weight for the Large size to be 4½ inches or 28 ounces based on a request by the Committee.

Current Table I
Size designation | Minimum diameter ¹ or weight: Inches | Minimum diameter ¹ or weight: Ounces | Maximum diameter ¹ or weight: Inches | Maximum diameter ¹ or weight: Ounces
Size A ² | 1⅞ | (³) | (³) | (³)
Size B | 1½ | (³) | 2¼ | (³)
Small | 1¾ | (³) | 2½ | 6
Medium | 2¼ | 5 | 3¼ | 10
Large | 3 | 10 | 4¼ | 16
¹ Diameter means the greatest dimension at right angles to the longitudinal axis, without regard to the position of the stem end.
² In addition to the minimum size specified, a lot of potatoes designated as Size A shall contain at least 40 percent of potatoes which are 2½ inches in diameter or larger or 6 ounces in weight or larger.
³ No requirement.

Proposed Table I
Size designation | Minimum diameter ¹ or weight: Inches | Minimum diameter ¹ or weight: Ounces | Maximum diameter ¹ or weight: Inches | Maximum diameter ¹ or weight: Ounces
Creamer | ¾ | (³) | 1⅝ | (³)
Chef | 2¾ | 8 | 4½ | 28
Size A ² | 1⅞ | (³) | (³) | (³)
Size B | 1½ | (³) | 2¼ | (³)
Small | 1¾ | (³) | 2½ | 6
Medium | 2¼ | 5 | 3¼ | 10
Large | 3 | 10 | 4½ | 28
¹ Diameter means the greatest dimension at right angles to the longitudinal axis, without regard to the position of the stem end.
² In addition to the minimum size specified, a lot of potatoes designated as Size A shall contain at least 40 percent of potatoes which are 2½ inches in diameter or larger or 6 ounces in weight or larger.
³ No requirement.

Current standard | Proposed standard | Discussion
§ 51.1546 Tolerances To allow for variations incident to proper grading and handling in each of the foregoing grades, the following tolerances by weight or equivalent basis, are provided as specified (a) For defects—(1) U.S. Extra No. 1. A total of 5 percent for potatoes in any lot which fail to meet the requirements for the grade: Provided, That not more than two-fifths of this tolerance, or 2 percent, shall be allowed for potatoes which are affected by freezing, southern bacterial wilt, ring rot, late blight, soft rot or wet breakdown, including therein not more than one-half of 1 percent for potatoes which are frozen or affected by soft rot or wet breakdown. See § 51.1547 (2) U.S. No. 1. A total of 8 percent for potatoes in any lot which fail to meet the requirements for the grade: Provided, That included in this tolerance not more than the following percentages shall be allowed for the defects listed: (i) 5 percent for external defects; (ii) 5 percent for internal defects; or, (iii) 3 percent for potatoes which are affected by freezing, southern bacterial wilt, ring rot, late blight, soft rot or wet breakdown, including therein not more than 1 percent for potatoes which are frozen or affected by soft rot or wet breakdown. See § 51.1547 | § 51.1546 Tolerances To allow for variations incident to proper grading and handling in each of the foregoing grades, the following tolerances by weight or equivalent basis, are provided as specified (a) For defects—(1) U.S. No. 1. Shipping Point: A total of 8 percent for potatoes in any lot which fail to meet the requirements for the grade: Provided, That included in this tolerance not more than the following percentages shall be allowed for the defects listed: (i) 5 percent for external defects; (ii) 5 percent for internal defects; (iii) including therein not more than 1 percent for potatoes which are frozen or affected by soft rot or wet breakdown En route or at Destination: A total of 10 percent for potatoes in any lot which fail to meet the requirements for the grade: Provided, That included in this tolerance not more than the following percentages shall be allowed for the defects listed: (i) 7 percent for external defects; (ii) 7 percent for internal defects; (iii) Including therein not more than 2 percent for potatoes which are frozen or affected by soft rot or wet breakdown. See § 51.1547 | Due to the deletion of the U.S. Extra No. 1 grade, paragraph (2) will be redesignated as paragraph (1). Based on the harmonizing of the U.S. and Canadian standard it is being proposed that the 3 percent restrictive tolerance for freezing, southern bacterial wilt, ring rot, late blight, soft rot or wet breakdown be deleted. Also, the proposed establishment of an “En Route or At Destination” tolerance to the U.S. No. 1 grade will be consistent with similar standards.
(3) U.S. Commercial. A total of 20 percent for potatoes in any lot which fail to meet the requirements for the grade: Provided, That included in this tolerance not more than the following percentages shall be allowed for the defects listed: (i) 10 percent for potatoes which fail ito meet the requirements for U.S. No. 2 grade, including therein not more than: (ii) 6 percent for external defects; (iii) 6 percent for internal defects; or, (iv) 3 percent for potatoes which are affected by freezing, southern bacterial wilt, ring rot, late blight, soft rot or wet breakdown, including therein not more than 1 percent for potatoes which are frozen or affected by soft rot or wet breakdown. See § 51.1547 | (2) U.S. Commercial. A total of 20 percent for potatoes in any lot which fail to meet the requirements for the grade: Provided, That included in this tolerance not more than the following percentages shall be allowed for the defects listed: (i) 10 percent for potatoes which fail to meet the requirements for U.S. No. 2 grade, including including therein not more than: (ii) 6 percent for external defects; (iii) 6 percent for internal defects; or, (iv) Including therein not more than 1 percent for potatoes which are frozen or affected by soft rot or wet breakdown. See § 51.1547 | Due to the redesignating of paragraph (2), paragraph (3) will be redesignated as paragraph (2). Based on the harmonizing of the U.S. and Canadian standards it is being proposed that the 3 percent restrictive tolerance for freezing, southern bacterial wilt, ring rot, late blight, soft rot or wet breakdown be deleted.
(4) U.S. No. 2. A total of 10 percent for potatoes in any lot which fail to meet the requirements for the grade: Provided, That included in this tolerance not more than the following percentages shall be allowed for the defects listed: (i) 6 percent for external defects; (ii) 6 percent for internal defects; or, (iii) 3 percent for potatoes which are affected by freezing, southern bacterial wilt, ring rot, late blight, soft rot or wet breakdown, including therein not more than 1 percent for potatoes which are frozen or affected by soft rot or wet breakdown. See § 51.1547 | (3) U.S. No. 2 Shipping Point: A total of 10 percent for potatoes in any lot which fail to meet the requirements for the grade: Provided, That included in this tolerance not more than the following percentages shall be allowed for the defects listed: (i) 6 percent for external defects; (ii) 6 percent for internal defects; (iii) Including therein not more than 1 percent which are frozen or affected by soft rot or wet breakdown En route or at Destination: A total of 12 percent for potatoes in any lot which fail to meet the requirements for the grade: Provided, That included in this tolerance not more than the following percentages shall be allowed for the defects listed: (i) 8 percent for external defects; (ii) 8 percent for internal defects; (iii) Including therein not more than 2 percent for potatoes which are frozen or affected by soft rot or wet breakdown | Due to the redesignating of paragraph (3), paragraph (4) will be redesignated as paragraph (3). Based on the harmonizing of the U.S. and Canadian standards it is being proposed that the 3 percent restrictive tolerance for freezing, southern bacterial wilt, ring rot, late blight, soft rot or wet breakdown be deleted. Also, the proposed establishment of an ``En Route or At Destination'' tolerance to the U.S. No. 2 grade will be consistent with similar standards.
§ 51.1564 External Defects AIR CRACKS Damage: When materially detracting from appearance of potato Serious Damage: When seriously detracting from appearance of potato | Damage: When removal causes a loss of more than 5 percent of the total weight of the potato or when the air crack(s) affects more than ⅓ the length or diameter of the potato (whichever is greater) in the aggregate Serious Damage: When removal causes a loss of more than 10 percent of the total weight of the potato or when the air crack(s) affects more than ¾ the length or diameter of the potato (whichever is greater) in the aggregate | Adding specific scoring criteria, as currently defined in the inspection instructions, for materially and seriously detracting would provide an objective means of evaluating this defect.
BRUISES Damage: When materially detracting from appearance of potato. Or, when removal causes loss of more than 5 percent of total weight of potato Serious Damage: When seriously detracting from appearance of potato. Or, when removal causes loss of more than 10 percent of total weight of potato | BRUISES (not including pressure bruises and sunken discolored areas) Damage: When materially detracting from appearance of potato or when removal causes loss of more than 5 percent of the total weight of the potato or when the area affected is more than 5 percent of the surface in the aggregate (i.e. ¾ inch on a 2½ inch or 6 oz. potato). Correspondingly lesser or greater areas in smaller or larger potatoes Serious Damage: When seriously detracting from appearance of potato or when removal causes a loss of more than 10 percent of the total weight of the potato or when the area affected is more than 10 percent of the surface in the aggregate (i.e. 1¼ inches on a 2½ inch or 6 oz. potato). Correspondingly lesser or greater areas in smaller or larger potatoes | Revising the scoring criteria, as currently defined in the inspection instructions, would provide an objective means of evaluating this defect.
| CUTS
| Damage: When one smooth cut affects more than 5 percent of the surface area Serious Damage: Cut(s) that affect more than 10 percent of the surface area in the aggregate or when a single side cut extends beyond ½ the length of the potato | Currently there is no specific scoring criteria for this defect in the standards. Adding this to the standard, as defined in the inspection instructions, would provide an objective means of evaluating this defect.
| ELEPHANT HIDE
| Damage: When affecting over 10 percent of the surface area of the potato Serious Damage: When affecting over 25 percent of the surface area | Currently there is no specific scoring criteria for this defect in the standards. Adding this to the standard, as defined in the inspection instructions, would provide an objective means of evaluating this defect.
EXTERNAL DISCOLORATION Damage: When materially detracting from appearance of potato Serious Damage: When seriously detracting from appearance of potato | Areas that are light tan or lighter in color and blends should be ignored Damage: When more than 30 percent of the surface is affected by light tan or light brown colors which do not blend or when more than 15 percent of the surface is affected by colors darker than light tan or light brown Serious Damage: When more than 60 percent of the surface is affected by light tan or light brown colors which do not blend or when more than 30 percent of the surface is affected by colors darker than light tan or light brown | Adding specific scoring criteria, as currently defined in the inspection instructions, for “materially” and “seriously detracting” would provide an objective means of evaluating this defect.
| FLATTENED OR DEPRESSED AREAS/PRESSURE BRUISES
| Damage: When removal of underlying discolored flesh causes a loss of more than 5 percent of the total weight of the potato or when the flattened or depressed area(s) covers more surface area than allowed in Table IV. (See Table IV.) Serious Damage: When removal of underlying discolored flesh causes a loss of more than 10 percent of the weight of the potato or when the flattened depressed area(s) covers more surface area than allowed in the Table IV. (See Table IV.) | Currently there is no specific scoring criteria for this defect in the standards. Adding this to the standard, as defined in the inspection instructions, would provide an objective means of evaluating this defect.
FLEA BEATLE INJURY
Damage: When materially detracting from appearance of potato. Or, when removal causes loss of more than 5 percent of total weight of potato Serious Damage: When seriously detracting from appearance of potato. Or, when removal causes loss of more than 10 percent of total weight of potato | Damage: When removal causes a loss of more than 5 percent of the total weight of the potato or when the area affected is more than 5 percent of the surface in the aggregate Serious Damage: When removal causes a loss of more than 10 percent of the weight of the potato or when the area affected is more than 10 percent of the surface in the aggregate | Adding specific scoring criteria, as currently defined in the inspection instructions, for ``materially'' and ``seriously detracting'' would provide an objective means of evaluating this defect.
GREENING
Damage: When materially detracting from appearance of potato. Or, when removal causes loss of more than 5 percent of total weight of potato Serious Damage: When seriously detracting from appearance of potato. Or, when removal causes loss of more than 10 percent of total weight of potato | Damage: When removal causes a loss of more than 5 percent of the total weight of the potato or when green color affects more than 25 percent of the surface in the aggregate Serious Damage: When removal causes a loss of more than 10 percent of the weight of the potato or when the green color affects more than 50 percent of the surface in the aggregate | Adding specific scoring criteria, as currently defined in the inspection instructions, for ``materially'' and ``seriously detracting'' would provide an objective means of evaluating this defect.
GROWTH CRACKS
Damage: When materially detracting from appearance of potato Serious Damage: When seriously detracting from appearance of potato | Damage: When the growth crack(s) affects more than ½ the length of the potato in the aggregate on round varieties or more than ⅓ the length in the aggregate on long varieties or when the depth is greater than that as outlined in Table V. (See Table V.) Serious Damage: When the growth crack(s) affects more than ¾ the length of the potato in the aggregate or when the depth is greater than that as outlined in Table V. (See Table V.) | Adding specific scoring criteria, as currently defined in the inspection instructions, for ``materially'' and ``seriously detracting'' would provide an objective means of evaluating this defect.
| GRUB DAMAGE
| Damage: When removal causes a loss of more than 5 percent of the total weight of the potato or when affecting more than 5 percent of the surface area (i.e. more than ¾ inch on a 2½ inch or 6 ounce potato). Correspondingly lesser or greater areas in smaller or larger potatoes Serious Damage: When removal causes a loss of more than 10 percent of the total weight of the potato or when affecting more than 10 percent of the surface area (i.e. more than ¾ inch on a 2½ inch or 6 ounce potato). Correspondingly lesser or greater areas in smaller or larger potatoes | Currently there is no specific scoring criteria for this defect in the standards. Adding this to the standard, as defined in the inspection instructions, would provide an objective means of evaluating this defect.
| NEMATODE (ROOT KNOT)
| Damage: When removal causes a loss of more than 5 percent of the total weight of the potato Serious Damage: When removal causes a loss of more than 10 percent of the total weight of the potato | Currently there is no specific scoring criteria for this defect in the standards. Adding this to the standard, as defined in the inspection instructions, would provide an objective means of evaluating this defect.
RHIZOCTONIA (BLACK SCURF)
Damage: When materially detracting from appearance of potato Serious Damage: When seriously detracting from appearance of potato | Damage: When affecting more than 15 percent of the surface in the aggregate Serious Damage: When affecting more than 50 percent of the surface in the aggregate. | Adding specific scoring criteria, as currently defined in the inspection instructions, for “materially” and “seriously detracting” would provide an objective means of evaluating this defect.
| RODENT AND BIRD DAMAGE
| Damage: When removal causes a loss of more than 5 percent of the total weight of the potato or when affecting more than 5 percent of the surface area (i.e. more than ¾ inch on a 2½ inch or 6 ounce potato). Correspondingly lesser or greater areas in smaller or larger potatoes Serious Damage: When removal causes a loss of more than 10 percent of the total weight of the potato or when affecting more than 10 percent of the surface area (i.e. more than ¾ inch on a 2½ inch or 6 ounce potato). Correspondingly lesser or greater areas in smaller or larger potatoes | Currently there is no specific scoring criteria for this defect in the standards. Adding this to the standard, as defined in the inspection instructions, would provide an objective means of evaluating this defect.
| RUSSETING (On Non Russet Type)
| Damage: When more than 50 percent of the surface is affected in the aggregate Serious Damage: N/A | Currently there is no specific scoring criteria for this defect in the standards. Adding this to the standard, as defined in the inspection instruction, would provide an objective means of evaluating this defect.
SCAB, PITTED
Damage: When materially detracting from appearance of potato. Or, when removal causes loss of more than 5 percent of total weight of potato Serious Damage: When seriously detracting from appearance of potato. Or, when removal causes loss of more than 10 percent of total weight of potato | Damage: When removal causes a loss of more than 5 percent of the total weight of the potato or when scab affects an aggregate area of more than ½ inch (based on a potato 2½ inches in diameter or 6 oz. in weight). Correspondingly lesser or greater areas in smaller or larger potatoes Serious Damage: When the removal causes a loss of more than 10 percent of the total weight of the potato or when scab affects an aggregate area of more than 1 inch (based on a potato 2½ inches in diameter or 6 oz. in weight). Correspondingly lesser or greater areas in smaller or larger potatoes | Adding specific scoring criteria, as currently defined in the inspection instructions, for “materially” and “seriously detracting” would provide an objective means of evaluating this defect.
SCAB, RUSSET
Damage: When materially detracting from appearance of potato Serious Damage: When seriously detracting from appearance of potato | Damage: When smooth russeting affects more than ⅓ of the surface or when rough russet scab affects more than 10 percent of the surface in the aggregate Serious Damage: When rough russeting affects more than 25 percent of the surface in the aggregate | Adding specific scoring criteria, as currently defined in the inspection instruction, for ``materially'' and ``seriously detracting'' would provide an objective means of evaluating this defect.
SCAB, SURFACE
Damage: When more than 5 percent of surface affected Serious Damage: When more than 25 percent of surface affected | Damage: When more than 5 percent of the surface in the aggregate is affected Serious Damage: When more than 25 percent of the surface in the aggregate is affected | Adding aggregate to the scoring guide will clarify the guide.
| SILVER SCURF
| Damage: When affecting more than 50 percent of the surface area of the potato Serious Damage: When its severity causes a wrinkling of the skin over more than 50 percent of the surface | Currently there is no specific scoring criteria for this defect in the standards. Adding this to the standard, as defined in the inspection instructions, would provide an objective means of evaluating this defect.
SPROUTS
Damage: When more than 10 percent of the potatoes in any lot have any sprout more than ¾ inch in length or have individual sprouts or cluster of sprouts which materially detract from the appearance of the potato | Damage: Not more than 5 percent of the potatoes in a lot may have individual or clusters of sprouts not more than ¼ inch at shipping point and ½ inch at destination Serious Damage: Not more than 10 percent of the potatoes in a lot may have individual or clusters of sprouts not more than ½ inch at shipping point and 1 inch at destination | Based on the request of the committee it is being proposed that the scoring guide be revised.
| SUNKEN DISCOLORED AREAS SEE TABLE VI. | Currently there is no specific scoring criteria for this defect in the standards. Adding this to the standard, as defined in the inspection instructions, would provide an objective means of evaluating this defect.
| SURFACE CRACKS Areas affected by fine net-like cracking should be ignored Damage: When smooth shallow cracking affects more than ⅓ of the surface or when rough deep cracking affects more than 5 percent of the surface Serious Damage: When rough deep cracking affects more than 10 percent of the surface | Currently there is no specific scoring criteria for this defect in the standards. Adding this to the standard, as defined in the inspection instructions, would provide an objective means of evaluating this defect.
WIREWORM OR GRASS DAMAGE
Damage: When any hole in a potato 2½ inches in diameter or 6 ounces in weight is more than ¾ inch long, or when the aggregate length of all holes is more than 1¼ inches, or correspondingly shorter or longer holes in smaller or larger potatoes Serious Damage: When any hole in a potato 2½ inches in diameter or 6 ounces in weight is more than 1½ inches long, or when the aggregate length of all holes is more than 2 inches, or correspondingly shorter or longer holes in smaller or larger potatoes | Damage: When affecting the flesh of the potato and removal causes a loss of more than 5 percent of the total weight of the potato Serious Damage: When affecting the flesh of the potato and removal causes a loss of more than 10 percent of the total weight of the potato | Based on the request of the committee it is being proposed that the scoring guide be revised.
INTERNAL BLACK SPOT
Damage: Maximum Allowed 5 percent waste Serious Damage: Maximum Allowed 10 percent waste | Damage: When the spot(s) are darker than the official color chip (POT-CC-2) after removing 5 percent of the total weight of the potato Serious Damage: When the spot(s) are darker than the official color chip (POT-CC-2) after removing 10 percent of the total weight of the potato | AMS is proposing to implement color chip POT-CC-2 into the scoring criteria for internal black spot. AMS developed this color chip at the request of the industry to assist in the scoring of this defect. POT-CC-2 is available for review at the Fresh Products Branch, Fruit and Vegetable Programs, AMS, South Building, Washington, DC or any of the Fresh Product Branch Field offices.

List of Subjects in 7 CFR Part 51

Agricultural commodities, Food grades and standards, Fruits, Nuts, Reporting and recordkeeping requirements, Trees, Vegetables.

For reasons set forth in the preamble, 7 CFR part 51 is proposed to be amended as follows:

PART 51—[AMENDED]

1. The authority citation for part 51 continues to read as follows:

Authority: 7 U.S.C. 1621-1627.

§ 51.1540 [Removed and reserved]

2. Remove and reserve § 51.1540.

§ 51.1544 [Removed and reserved]

3. Remove and reserve § 51.1544 .

§ 51.1545 [Amended]

4. In § 51.1545, Table I is revised to read as follows:

§ 51.1545 Size.

* * * * *

Table I
Size designation | Minimum diameter ¹ or weight: Inches | Minimum diameter ¹ or weight: Ounces | Maximum diameter ¹ or weight: Inches | Maximum diameter ¹ or weight: Ounces
Creamer | ¾ | (³) | 1⅝ | (³)
Chef | 2¾ | 8 | 4½ | 28
Size A² | 1⅞ | (³) | (³) | (³)
Size B | 1½ | (³) | 2¼ | (³)
Small | 1¾ | (³) | 2½ | 6
Medium | 2¼ | 5 | 3¼ | 10
Large | 3 | 10 | 4½ | 28
¹ Diameter means the greatest dimension at right angles to the longitudinal axis, without regard to the position of the stem end.
² In addition to the minimum size specified, a lot of potatoes designated as Size A shall contain at least 40 percent of potatoes which are 2½ inches in diameter or larger or 6 ounces in weight or larger.
³ No requirement.

* * * * *

§ 51.1546 [Amended]

5. In § 51.1546, paragraph (a) is revised to read as follows:

§ 51.1546 Tolerances.

* * * * *

(a) For defects—(1) U.S. No. 1 at shipping point. A total of 8 percent for potatoes in any lot which fail to meet the requirements for the grade: Provided, That included in this tolerance not more than the following percentages shall be allowed for the defects listed:

(i) 5 percent for external defects;

(ii) 5 percent for internal defects;

(iii) Including therein not more than 1 percent for potatoes which are frozen or affected by soft rot or wet breakdown.

(2) En route or at destination. A total of 10 percent for potatoes in any lot which fail to meet the requirements for the grade: Provided, That included in this tolerance not more than the following percentages shall be allowed for the defects listed:

(i) 7 percent for external defects;

(ii) 7 percent for internal defects;

(iii) Including therein not more than 2 percent for potatoes which are frozen or affected by soft rot or wet breakdown. See § 51.1547.

(3) U.S. commercial. A total of 20 percent for potatoes in any lot which fail to meet the requirements for the grade: Provided, That included in this tolerance not more than the following percentages shall be allowed for the defects listed:

(i) 10 percent for potatoes which fail to meet the requirements for U.S. No. 2 grade, including therein not more than:

(ii) 6 percent for external defects;

(iii) 6 percent for internal defects; or,

(iv) Including therein not more than 1 percent for potatoes which are frozen or affected by soft rot or wet breakdown. See § 51.1547.

(4) U.S. No. 2 at shipping point: A total of 10 percent for potatoes in any lot which fail to meet the requirements for the grade: Provided, That included in this tolerance not more than the following percentages shall be allowed for the defects listed:

(i) 6 percent for external defects;

(ii) 6 percent for internal defects;

(iii) Including therein not more than 1 percent for potatoes which are frozen or affected by soft rot or wet breakdown.

(5) En route or at destination: A total of 12 percent for potatoes in any lot which fail to meet the requirements for the grade: Provided, That included in this tolerance not more than the following percentages shall be allowed for the defects listed:

(i) 8 percent for external defects;

(ii) 8 percent for internal defects;

(iii) Including therein not more than 2 percent for potatoes which are frozen or affected by soft rot or wet breakdown. See § 51.1547.

* * * * *

§ 51.1564 [Amended]

6. In § 51.1564, Table III is revised and a new Table IV, Table V, and Table VI are added to read as follows:

§ 51.1564 External defects.

* * * * *

Table III.—External Defects
Defect | Damage | Serious damage
Air Cracks | When removal causes a loss of more than 5 percent of the total weight of the potato or when the air crack(s) affects more than ⅓ the length or diameter of the potato (whichever is greater) in the aggregate | When removal causes a loss of more than 10 percent of the total weight of the potato or when the air crack(s) affects more than ¾ the length or diameter of the potato (whichever is greater) in the aggregate.
Artificial Coloring | When unsightly or when concealing any defect causing damage or when penetrating the flesh and removal causes loss of more than 5 percent of total weight of potato | When concealing a serious defect or when penetrating into the flesh and removal causes loss of more than 10 percent of total weight of potato.
Bruises (Not including pressure bruise and sunken discolored areas) | When materially detracting from appearance of potato or when removal causes a loss of more than 5 percent of the total weight of the potato or when the area affected is more than 5 percent of the surface in the aggregate (i.e. ¾ inch on a 2½ inch or 6 oz. potato). Correspondingly lesser or greater areas in smaller or larger potatoes | When seriously detracting from appearance of potato or when removal causes a loss of more than 10 percent of the total weight of the potato or when the area affected is more than 10 percent of the surface in the aggregate (i.e. 1¼ inches on a 2½ inch or 6 oz. potato). Correspondingly lesser or greater areas in smaller or larger potatoes.
Cuts | When one smooth cut affects more than 5 percent of the surface area | Cut(s) that affect more than 10 percent of the surface area in the aggregate or when a single side cut extends beyond ½ the length of the potato.
Dirt | When materially detracting from the appearance of the potato | When seriously detracting from the appearance of the potato.
Elephant Hide | When affecting over 10 percent of the surface area of the potato | When affecting over 25 percent of the surface area.
Enlarged Lenticels | When materially detracting from the appearance of the potato | When seriously detracting from the appearance of the potato.
External Discoloration (Areas that are light tan or lighter in color and blends should be ignored.) | When more than 30 percent of the surface is affected by light tan or light brown colors which do not blend or when more than 15 percent of the surface is affected by colors darker than light tan or light brown | When more than 60 percent of the surface is affected by light tan or light brown colors which do not blend or when more than 30 percent of the surface is affected by colors darker than light tan or light brown.
Flattened or Depressed Areas/Pressure Bruises | When removal of underlying discolored flesh causes a loss of more than 5 percent of the total weight of the potato or when the flattened or depressed area(s) covers more surface area than allowed in Table IV. (See Table IV.) | When removal of underlying discolored flesh causes a loss of more than 10 percent of the weight of the potato or when the flattened depressed area(s) covers more surface area than allowed in the Table IV. (See Table IV.)
Flea Beetle Injury | When materially detracting from the appearance or when removal causes a loss of more than 5 percent of the total weight of the potato or when the area affected is more than 5 percent of the surface in the aggregate | When seriously detracting from the appearance of the potato or when removal causes a loss of more than 10 percent of the weight of the potato or when the area affected is more than 10 percent of the surface in the aggregate.
Greening | When removal causes a loss of more than 5 percent of the total weight of the potato or when green color affects more than 25 percent of the surface in the aggregate | When removal causes a loss of more than 10 percent of the weight of the potato or when green color affects more than 50 percent of the surface in the aggregate.
Growth Cracks | When the growth crack(s) affects more than ½ the length of the potato in the aggregate on round varieties or more than ⅓ the length in the aggregate on long varieties; or, when the depth is greater than that as outlined in Table V. (See Table V.) | When the growth crack(s) affects more than ¾ the length of the potato in the aggregate or when the depth is greater than that as outlined in Table V. (See Table V.)
Grub Damage | When removal causes a loss of more than 5 percent of the total weight of the potato or when affecting more than 5 percent of the surface area (i.e. more than ¾ inch on a 2½ inch or 6 ounce potato). Correspondingly lesser or greater areas in smaller or larger potatoes | When removal causes a loss of more than 10 percent of the total weight of the potato or when affecting more than 10 percent of the surface area (i.e. more than ¾ inch on a 2½ inch or 6 ounce potato). Correspondingly lesser or greater areas in smaller or larger potatoes.
Insects or Worms | (See Serious Damage.) | When present inside the potato.
Nematode (Root Knot) | When removal causes loss of more than 5 percent of total weight of potato | When removal causes loss of more than 10 percent of total weight of potato.
Rhizoctonia | When affecting more than 15 percent of the surface in the aggregate | When affecting more than 50 percent of the surface in the aggregate.
Rodent or Bird Damage | When removal causes a loss of more than 5 percent of the total weight of the potato or when affecting more than 5 percent of the surface area (i.e. more than ¾ inch on a 2½ inch or 6 ounce potato). Correspondingly lesser or greater areas in smaller or larger potatoes | When removal causes a loss of more than 10 percent of the total weight of the potato or when affecting more than 10 percent of the surface area (i.e. more than ¾ inch on a 2½ inch or 6 ounce potato). Correspondingly lesser or greater areas in smaller or larger potatoes.
Russeting (On Non Russet Type) | When more than 50 percent of the surface is affected in the aggregate | N/A
Scab, Pitted | When removal causes a loss of more than 5 percent of the total weight of the potato or when scab affects an aggregate area of more than ½ inch. (Based on a potato 2½ inches in diameter or 6 oz. in weight.) Correspondingly lesser or greater areas in smaller or larger potatoes | When the removal causes a loss of more than 10 percent of the total weight of the potato or when scab affects an aggregate area of more than 1 inch. (Based on a potato 2½ inches in diameter or 6 oz. in weight.) Correspondingly lesser or greater areas in smaller or larger potatoes.
Scab, Russet | Smooth and affecting more than ⅓ of the surface or rough russet scab which affects more than 10 percent of the surface in the aggregate | Rough and affecting more than 25 percent of the surface in the aggregate.
Scab, Surface | When more than 5 percent of the surface in the aggregate is affected | When more than 25 percent of the surface in the aggregate is affected.
Second Growth | When materially detracting from the appearance of the potato | When seriously detracting from the appearance of the potato.
Silver Scurf | When affecting more than 50 percent of the surface area of the potato | When its severity causes a wrinkling of the skin over more than 50 percent of the surface.
Sprouts | Not more than 5 percent of the potatoes in a lot may have individual or clusters of sprouts not more than ¼ inch at shipping point and ½ inch at destination | Not more than 10 percent of the potatoes in a lot may have individual or clusters of sprouts not more than ½ inch at shipping point and 1 inch at destination.
Sunburn | When removal causes loss of more than 5 percent of total weight of potato | When removal causes loss of more than 10 percent of total weight of potato.
Sunken Discolored Areas | See Table VI | See Table VI.
Surface Cracks (Areas affected by fine net-like cracking should be ignored) | When smooth shallow cracking affects more than ⅓ of the surface or when rough deep cracking affects more than 5 percent of the surface | When rough deep cracking affects more than 10 percent of the surface.
Wireworm or Grass Damage | When affecting the flesh of the potato and removal causes loss of more than 5 percent of total weight of potato | When affecting the flesh of the potato and removal causes loss of more than 10 percent of total weight of potato.
The following defects are considered serious damage when present in any degree: 1. Freezing. 2. Late blight. 3. Ring rot. 4. Southern bacterial wilt. 5. Soft rot. 6. Wet breakdown.

Table IV.—Flattened or Depressed Areas—Pressure Bruises Maximum Area Allowed
Diameter | Weight | No. 1 (aggregate area) | No. 2 (aggregate area)
Potato is: | Potato is: | Not more than: | Not more than:
Less than 2 in | Less than 4 oz | ½ in | 1 in.
2 to 2½ in | 4 to 6 oz | 1 in | 1½ in.
More than 2½ to 3 in | More than 6 to 8 oz | 1¼ in | 1¾ in.
More than 3 to 3½ in | More than 8 to 14 oz | 1½ in | 1⅞ in.
More than 3½ to 4 in | More than 14 to 20 oz | 1¾ in | 2 in.
More than 4 to 4½ in | More than 20 to 28 oz | 2 in | 2¼ in.
More than 4½ to 5 in | More than 28 to 36 oz | 2¼ in | 2¾ in.
More than 5 in | More than 36 oz | 2½ in | 3¼ in.

Table V.—Depth Allowed for Growth Cracks
Diameter | Weight | No. 1 (depth) | No. 2 (depth)
Potato is: | Potato is: | Not more than: | Not more than:
Less than 2 in | Less than 4 oz | ⅛ in | ¼ in.
2 to 2½ in | 4 oz to 6 oz | ¼ in | ⅜ in.
More than 2½ to 3 in | More than 6 oz to 8 oz | ⅜ in | ½ in.
More than 3 in | More than 8 oz | ½ in | ⅝ in.

Table VI.—Sunken Discolored Areas Maximum Area Allowed
Diameter | Weight | No. 1 (aggregate area) | No. 2 (aggregate area)
Potato is: | Potato is: | Not more than: | Not more than:
Less than 2 in | Less than 4 oz | ⅜ in | ¾ in.
2 to 2½ in | 4 to 6 oz | ¾ in | 1 in.
More than 2½ to 3 in | More than 6 to 8 oz | 1 in | 1¼ in.
More than 3 to 3½ in | More than 8 to 14 oz | 1¼ in | 1½ in.
More than 3½ to 4 in | More than 14 to 20 oz | 1½ in | 1¾ in.
More than 4 to 4½ in | More than 20 to 28 oz | 1¾ in | 2 in.
More than 4½ to 5 in | More than 28 to 36 oz | 2 in | 2¼ in.
More than 5 in | More than 36 oz | 2¼ in | 2½ in.

7. In § 51.1565, Table IV is redesignated as Table I and revised to read as follows:

§ 51.1565 Internal defects.

* * * * *

Table I.—Internal Defects
Defects | Damage maximum allowed | Serious damage maximum allowed
Occurring outside of or not entirely confined to the vascular ring
Ingrown Sprouts, Internal Discoloration, Vascular Browning, Fusarium Wilt, Net Necrosis, Other Necrosis, Stem End Browning | 5 percent waste | 10 percent waste.
Internal Black Spot | When the spot(s) are darker than the official color chip (POT-CC-2) after removing 5 percent of the total weight of the potato. | When the spot(s) are darker than the official color chip (POT-CC-2) after removing 10 percent of the total weight of the potato.
Occurring entirely within the vascular ring
Hollow Heart or Hollow Heart with Discoloration. | Area affected not to exceed that of a circle ½ inch in diameter in a potato 2½ inches in diameter or 6 ounces in weight.¹ | Area affected not to exceed that of a circle ¾ inch in diameter in a potato 2½ inches in diameter or 6 ounces in weight.¹
Light Brown Discoloration (Brown Center). | Area affected not to exceed that of a circle ½ inch in diameter in a potato 2½ inches in diameter or 6 ounces in weight.¹ | Area affected not to exceed that of a circle ¾ inch in diameter in a potato 2½ inches in diameter or 6 ounces in weight.¹
Internal Brown Spot and Similar Discoloration (Heat Necrosis). | Not more than the equivalent of 3 scattered spots ⅛ inch in diameter in a potato 2½ inches in diameter or 6 ounces in weight.¹ | Not more than the equivalent of 6 scattered spots ⅛ inch in diameter in a potato 2½ inches in diameter or 6 ounces in weight.¹
¹ Note: Correspondingly lesser or greater areas in smaller or larger potatoes.

Dated: September 14, 2006.
Lloyd C. Day,
Administrator, Agricultural Marketing Service.

[FR Doc. 06-7819 Filed 9-21-06; 8:45 am]

BILLING CODE 3410-02-M